DEPARTMENT OF STATE

[Public Notice 4709]

Renewal of the Charter of the Advisory Committee on Cultural Diplomacy

Summary: The Department of State announces that the charter of the Advisory Committee on Cultural Diplomacy has been renewed for an additional two-year period, to expire on August 31, 2007.

The Department of State announces that the charter of the Advisory Committee on Cultural Diplomacy, established under Public Law 107-228, section 224, has been renewed for an additional two-year period. The charter will now expire on August 31, 2007.

The Advisory Committee on Cultural Diplomacy was established to “advise the Secretary on programs and policies to advance the use of cultural diplomacy in United States foreign policy.”

Dated: August 31, 2005.
Daniel Schuman,
Chief, Cultural Programs Division, Department of State.

[FR Doc. 05-17804 Filed 9-7-05; 8:45 am]

BILLING CODE 4710-05-P